DEPARTMENT OF COMMERCE

National Oceanic and Atmospheric Administration

50 CFR Part 648

[I.D. 092603D]

Fisheries of the Northeastern United States; Tilefish Fishery; Continuation of Specifications for the 2004 Fishing Year

AGENCY: National Marine Fisheries Service (NMFS), National Oceanic and Atmospheric Administration (NOAA), Commerce.

ACTION: Notification of continuation of specifications for fishing year 2004.

SUMMARY: NMFS announces that it will continue the 2003 quota specifications for the golden tilefish fishery for the 2004 fishing year. Accordingly, the total allowable landings (TAL) for the 2004 fishing year will remain at 1.995-million lb (905,172-kg). The intent of this action is to notify the public that there will be no change in the fishery specifications for tilefish for the fishing year beginning November 1, 2003.

DATES: Effective from November 1, 2003, through October 31, 2004.

FOR FURTHER INFORMATION CONTACT: Douglas W. Christel, 978-281-9141; fax 978-281-9135; e-mail Douglas.Christel@noaa.gov.

SUPPLEMENTARY INFORMATION:

Background

The final rule implementing the Tilefish Fishery Management Plan (FMP) became effective on November 1, 2001 (66 FR 49136, September 26, 2001). Pursuant to the tilefish regulations at 50 CFR 648.290, the Tilefish FMP Monitoring Committee (Monitoring Committee) will meet after the completion of each stock assessment, or at the request of the Mid-Atlantic Fishery Management Council (Council) Chairman, to review tilefish landings information and any other relevant available data to determine if the annual quota requires modification to respond to changes to the stock's biological reference points or to ensure that the rebuilding schedule is maintained. Additional management measures or revisions to existing measures could also be considered at this time to ensure that the TAL would not be exceeded. Furthermore, up to 3 percent of the TAL could be set aside for a given fishing year for the purpose of funding research. In the event that a new stock assessment is not completed or the Council Chairman does not request that the Monitoring Committee meet, the regulations further specify that the previous year's specifications will remain effective and that NMFS will issue notification in the Federal Register to inform the public.

A new tilefish stock assessment is not scheduled to occur until 2004. Consequently, the Council Chairman did not request that the Monitoring Committee meet to determine if the annual quota requires modification to respond to stock conditions. Furthermore, the Council, at its August 2003 meeting, voted on research set-aside proposals that did not include a request for a tilefish research set-aside allocation for the upcoming fishing year. Therefore, NMFS informs the public that the 2003 quota specifications of 1.995-million lb (905,172-kg) for the golden tilefish fishery will remain in effect for the 2004 fishing year (November 1, 2003, through October 31, 2004).

A recent decision in the case of Hadaja v. Evans set aside the permit categories for the tilefish fishery. However, the TAL for the fishery is not affected by this decision. Accordingly, for the 2004 fishing year, unless otherwise modified by the Council and NMFS, the 1.995-million lb (905,172-kg) TAL is applicable to the entire fishery and will not be distributed among permit categories according to the regulations at § 648.290(b).

Classification

This action is required by 50 CFR part 648 and is exempt from review under Executive Order 12866.

Authority: : 16 U.S.C. 1801 et seq.

Dated: October 3, 2003.Bruce C. Morehead,Acting Director, Office of Sustainable Fisheries, National Marine Fisheries Service.

[FR Doc. 03-25641 Filed 10-8-03; 8:45 am]

BILLING CODE 3510-22-S